DEPARTMENT OF LABOR

Employment and Training Administration

[TA-W-62,070]

Block Corporation, American Trouser Division, Tupelo, MS; Notice of Termination of Investigation

Pursuant to Section 221 of the Trade Act of 1974, an investigation was initiated on August 30, 2007 in response to a worker petition filed by a company official on behalf of workers at Block Corporation, American Trouser Division, Tupelo, Mississippi.

The petitioner has requested that the petition be withdrawn. Consequently, the investigation has been terminated.

Signed at Washington, DC this 5th day of September, 2007.
Elliott S. Kushner,
Certifying Officer, Division of Trade Adjustment Assistance.

[FR Doc. E7-17882 Filed 9-10-07; 8:45 am]

BILLING CODE 4510-FN-P